DEPARTMENT OF VETERANS AFFAIRS

[OMB Control No. 2900-0576]

Agency Information Collection Activity Under OMB Review: Certification of Affirmation of Enrollment Agreement Correspondence Course

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before June 16, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0576” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0576” in any correspondence.

SUPPLEMENTARY INFORMATION:

Authority: 44 U.S.C. 3501-3521; 38 U.S.C. 3686(b).

Title: Certification of Affirmation of Enrollment Agreement Correspondence Course (VA Form 22-1999c).

OMB Control Number: 2900-0576.

Type of Review: Revision of a currently approved collection.

Abstract: VA Form 22-1999c is used to pay education benefits for correspondence training. This information allows VA to determine if the claimant has been informed of the 5 day reflection period required by law. VA can pay education benefits, the claimant must affirm in writing the enrollment agreement for the correspondence course after the expiration of 5 full days after the date that he or she signed the correspondence contract. Accordingly, VA Form 22-1999c, Certificate of Affirmation of Enrollment Agreement of Correspondence Course was developed to assist with this statutory requirement. The claimant either affirms the agreement or destroys this form. The claimant then notifies the correspondence school of this decision. If the agreement is affirmed, the claimant enters a date no later than the seventh day after the date the agreement was signed, signs the form, and then the claimant sends the completed form to the correspondence school. The correspondence school's Certifying Official attaches an enrollment certification to VA Form 22-1999c and sends both forms to VA for processing.

An agency may not conduct or sponsor, and a person is not required to respond to a collection of information unless it displays a currently valid OMB control number. The Federal Register Notice with a 60-day comment period soliciting comments on this collection of information was published at 82 FR 16 on January 26, 2017, page 8568.

Affected Public: Institutions of Higher Learning.

Estimated Annual Burden: 22 hours.

Estimated Average Burden per Respondent: 3 minutes.

Frequency of Response: Annually.

Estimated Number of Respondents: 445.

By direction of the Secretary.
Cynthia Harvey-Pryor,
Department Clearance Officer, Enterprise Records Service, Office of Quality and Compliance, Department of Veterans Affairs.

[FR Doc. 2017-09948 Filed 5-16-17; 8:45 am]

BILLING CODE 8320-01-P